FEDERAL TRADE COMMISSION

Granting of Request for Early Termination of the Waiting Period under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies in individual cases, to terminate this waiting period prior to its expiration and requires that notice of this action published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. No. | Acquiring | Acquired | Entities
Transactions Granted Early Termination—03/27/2006
20060740 | NCI Building Systems, Inc | Michael E. Heisley, Sr | Robertson-Ceco II Corporation.
20060753 | HRH Prince Alwaleed Bin Talal Bin Abdulaziz Alsaud | Fairmont Hotels & Resorts, Inc | Fairmont Hotels & Resorts Inc.
20060754 | Colony Investors VII, L.P | Fairmont Hotels & Resorts, Inc | Fairmont Hotels & Resorts, Inc.
20060762 | News Corporation | Time Warner Inc | Turner Regional Entertainment Network, Inc.
20060765 | ASP IV Alternative Investments, L.P | Katharine Rawling and John Rawling | Robertson Aviation, LLC.
20060766 | ASP IV Alternative Investments, L.P | S. Harry Robertson | Robertson Aviation, LLC.
20060767 | ASP IV Alternative Investments, L.P | Nancy Jean Robertson | Robertson Aviation, LLC.
20060770 | Fidelity Investors III Limited Partnership | FMR Corp | Pro-Build Holdings Inc.
20060771 | FILP Capital Reserves Limited Partnership | FMR Corp | Pro-Build Holdings Inc., The Strober Organization, Inc.
20060780 | FRX Onshore, L.P | Charles J. Packard | Industrial Power Generating Corporation.
20060801 | Apollo Investment Fund V, L.P | SOURCECORP, Incorporated | SOURCECORP, Incorporated.
20060813 | Air Products and Chemicals, Inc | Tomah Holdings, Inc | Tomah Holding, Inc.
20060818 | Merrill Lynch & Co., Inc | Mr. O. Gene Bicknell | NPC International, Inc.
20060824 | Rentech, Inc | Agrium Inc | Royster-Clark Nitrogen, Inc.
20060827 | Sterling Bancorp | Randstad Holding nv | PL Services, L.P.
Transactions Granted Early Termination—03/28/2006
20060728 | Community Health System, Inc | Baptist Health System, Inc | Baptist Health Centers, Inc.
20060817 | The Hearst Family Trust | Marc Ladreit de Lacharriere | Fimalac, Inc.
Transactions Granted Early Termination—03/29/2006
20060751 | Kerry Group Plc | Ampersand 1999 Limited Partnership | Nuvex Ingredients, Inc.
20060840 | Asurion Corporation | Glen and Joan Hammer | Warranty Corporation of America.
Transactions Granted Early Termination—03/30/2006
20050976 | Fresenius AG | Renal Care Group, Inc | Renal Care Group, Inc.
Transactions Granted Early Termination—03/31/2006
20060802 | Microsoft Corporation | Vexcel Corporation | Vexcel Corporation.
20060825 | Citadel Broadcasting Corporation | ABC Chicago FM Radio, Inc | ABC Chicago FM Radio, Inc.
20060826 | Sun Capital Partners IV, L.P | The Lubrizol Corporation | Lubrizol Foam Control Additives, Inc., Noveon Hilton Davis, Inc., Noveon, Inc., Noveon IP Holdings Corp., Noveon Kalama, Inc., Noveon Textile Chemicals, Inc.
20060837 | General Electric Company | iVillage Inc | iVillage Inc.
20060838 | AerCap Holdings C.V | Robert Nichols | AeroTurbine, Inc.
20060839 | Aercap Holdings C.V | Nicolas Finazzo and Rose Ann Finazzo | AeroTurbine, Inc.
20060841 | Nautic Partners V, L.P | Frontenac VII Limited Partnership | 101communications LLC.
20060843 | Cendant Corporation | BRE/LQJV L.L.C | Baymont Franchising LLC, Baymont Licensing Corporation, c/o LQ Management LLC, Lodge Holdco II LLC.
20060851 | Hellman & Friedman Capital Partners V, L.P | Hicks, Muse, Tate & Furst Equity Fund III, L.P | Activant Solutions Holdings, Inc.
20060857 | Seaport Capital Partners III AIV, L.P | Aquila, Inc | Everest Connections, LLC, Everest Holdings III, LLC, Everest Holdings I, LLC, Everest I Leasing & Financing LLC.
20060858 | Diamond Castle Partners IV, L.P | Holdings, Inc | Holdings, Inc.
20060861 | EM Acquisition Corporation | Education Management Corporation | Education Management Corporation.
Transactions Granted Early Termination—04/04/2006
20060670 | Societe Lorraine de Participations Siderurgiques SLPS, S.A | LBO France Gestion SAS | Materis Holding Luxembourg S.A.
20060789 | JPM Chase | Kohl's Corporation | Kohl's Corporation, Kohl's Department Stores, Inc.
20060815 | Inversiones Argos S.A | Audax Private Equity fund, L.P | RMCC Group, Inc.
Transactions Granted Early Termination—04/05/2006
20060814 | Macquarie Infrastructure Company Trust | k1 Ventures Limited | K-1 HGC Investment, L.L.C.
20060820 | HSBC Holdings plc | American Securities Partners III, L.P | ASP Unifrax Inc.
20060862 | R.R. Donnelley & Sons Company | Office Tiger Holdings, Inc | Office Tiger Holdings, Inc.
Transactions Granted Early Termination—04/07/2006
20060812 | M. Brooks Smith | PRE Holdings, Inc | ECM Holdings, LLC, ITC Financial Licenses, Inc., ITC Financial Services, LLC, PRE Solutions, de Puerto Rico, Inc., PRE Solutions, Inc., Telecom International Services, Inc.
20060856 | American International Group, Inc | John M. and Patricia D. Noel, husband and wife | Travel, Guard Group, Inc.
20060872 | Vestar Capital Partners V, L.P | Madison Dearborn Capital Partners III, L.P | National Mentor Holdings, Inc.
20060873 | Valcon Acquisition Holding (Luxembourg) S.a.r.l | VNU N.V | VNU N.V.
20060876 | TA X L.P | Old Mutual plc | eSecLending, Inc.
20060893 | Iconix Brand Group, Inc | Tack Fat Group International Limited | Mudd (USA) LLC.
20060897 | Nucor Corporation | Connecticut Steel Holding Corporation. | Connecticut Steel Corporation, Connecticut Steel Leasing Corporation.
Transactions Granted Early Termination—04/11/2006
20060834 | Franklin Electric Co., Inc | Tecumseh Products Company | Little Giant Pump Company.
20060878 | HSBC Holdings plc | Boscov's, Inc | Boscov's Department Store, LLC, Boscov's Receivables Finance Corp.
20060881 | Endeavour Capital Fund IV, L.P | San Francisco Sausage Company, Inc | San Francisco Sausage Company, Inc.
Transactions Granted Early Termination—04/12/2006
20060867 | Trian Star Trust | H.J. Heinz Company | H.J. Heinz Company.
20060868 | Trian SPV I, L.P | H.J. Heinz Company | H.J. Heinz Company.
20060869 | Castlerigg International Limited | H.J. Heinz Company | H.J. Heinz Company.
Transactions Granted Early Termination—04/13/2006
20060853 | Fisher Scientific International Inc | Behrman Capital III, L.P | ADI Holding Company, Inc.
Transactions Granted Early Termination—04/14/2006
20060877 | Warner Music Group Corp | JPMorgan Chase & Co | Ryko Corporation.
20060885 | TowerBrook Investors II, L.P | Nancy W. Laurie and William J. Laurie | Kiel Center Partners, L.P. Kiel Center Redevelopment Corporation, St. Louis Blues Hockey Club Enterprises Company, St. Louis Blues Hockey Club, L.P.
20060905 | Hiland Partners, L.P | OGE Energy Corp | Enogex Gas Gathering, LLC.
20060908 | Francisco Partners, L.P. | Viasystems Group, Inc | Wire Harness Industries, Inc.
20060909 | Services Acquisition Corp. International | Jamba Juice Company | Jamba Juice Company.
20060912 | Pitney Bowes, Inc | Jay McNally | Ibis Consulting, Inc.
20060917 | Investec plc | Midwest Grain Processors Cooperative | Midwest Grain Processors, LLC.
20060924 | Pilot Group L.P | Raycom Media, Inc | Cosmos Broadcasting Corporation, KTVO License Subsidiary LLC, KTVO LLC, KXRM/KXTU License Subsidiary, LLC, KXRM/KXTU, LLC, LibCo, Inc., Raycom Holdings LLC, Raycom TV Broadcasting, Inc., WACH License Subsidiary LLC, WACH LLC, WFXL License Subsidiary, LLC, WFXL, LLC, WLUC License Subsidiary, LLC, WLUC, LLC, WNWO License Subsidiary, LLC, WNWO, LLC, WPBN/WTOM, LLC, WSTM License Subsidiary, LLC, WSTM, LLC.

FOR FURTHER INFORMATION CONTACT: Sandra M. Peay, Contract Representative or Renee Hallman, Contact Representative, Federal Trade Commission, Premerger Notification Office, Bureau of Competition, Room H-303, Washington, DC 20580. (202) 326-3100.

By Direction of the Commission.
Donald S. Clark,
Secretary.

[FR Doc. 06-3932 Filed 4-25-06; 8:45 am]

BILLING CODE 6750-01-M